DEPARTMENT OF THE INTERIOR

National Park Service

[NPS-WASO-NAGPRA-NPS0037199; PPWOCRADN0-PCU00RP14.R50000]

Notice of Inventory Completion: The Fort Ticonderoga Association, Ticonderoga, NY

AGENCY: National Park Service, Interior.

ACTION: Notice.

SUMMARY: In accordance with the Native American Graves Protection and Repatriation Act (NAGPRA), The Fort Ticonderoga Association has completed an inventory of human remains and associated funerary objects and has determined that there is a cultural affiliation between the human remains and associated funerary objects and Indian Tribes or Native Hawaiian organizations in this notice. The human remains and associated funerary objects were removed from Essex County, NY.

DATES: Repatriation of the human remains and associated funerary objects in this notice may occur on or after February 7, 2024.

ADDRESSES: Margaret Staudter, The Fort Ticonderoga Association, 30 Fort Ti Rd., Ticonderoga, NY 12883, telephone (518) 585-1015, email mstaudter@fort-ticonderoga.org.

SUPPLEMENTARY INFORMATION: This notice is published as part of the National Park Service's administrative responsibilities under NAGPRA. The determinations in this notice are the sole responsibility of The Fort Ticonderoga Association. The National Park Service is not responsible for the determinations in this notice. Additional information on the determinations in this notice, including the results of consultation, can be found in the inventory or related records held by The Fort Ticonderoga Association.

Description

Human remains representing, at minimum, three individuals were removed from the Ticonderoga Rock Shelter #2 in Essex County, NY. In September 1936, members of the Champlain Valley Archaeology Society led an excavation of a rock shelter near “Sentinel Rock”, a point on the Ticonderoga peninsula. The individuals (FT HR-01; FT HR-03; FT HR-08), and associated funerary objects were removed during the excavations were brought to Fort Ticonderoga. The 73 associated funerary objects are two bone awls, one lot of beaver teeth, one lot of bird bones, one lot of bear bones, one lot of bobcat bones, one lot of unidentified bones, one lot of nutshell fragments, one bullfrog pelvis, one lot of Canadian goose bones, one carnivore mandible, one lot of catfish/bullhead bones, one lot of Cervidae bones, one lot of chipmunk bones, one antler chisel, two bone claws, one lot of Colubridae (snake) bones, one lot of debitage, one lot of dog bones, one lot of duck bones, one lot of bone engravers, one lot of fish bones, one lot of fisher bones, one bone fishhook, one lot of bone flakers, one freshwater drum, two freshwater mussels, one lot of gar scales, one lot of gray fox bones, one lot of gray squirrel bones, one bone harpoon barb, one lot of snail shells, one lot of large mammal bones, one lynx mandible, one lot of mammal bones, one lot of mink bones, one lot of assorted objects, one lot of muskrat bones, one lot of mussel shell, one bone perforator/pin, one lot of porcupine bones, one lot of projectile points, one lot of pumpkinseed (fish) cranial fragments, one lot of antler punches, one lot of racoon bones, one lot of rattlesnake bones, one lot of rodent bones, one lot of bone scrapers, one lot of clay rim sherds, one clay collar sherd, one lot of clay body sherds, one undecorated clay sherd, one lot of small mammal bones, one lot of snail shell fragments, one lot of antler spikes, one lot of stinkpot bones, one limestone fragment, one unworked jasper pebble, one lot of sunfish bones, one lot of stone tools, one lot of turkey bones, one lot of turtle bones, one lot of unidentified bone, one lot of unidentified fish bone, one lot of unidentified mineral objects, one lot of vertebrate bones, one lot of walleye bones, two white perch cranial fragments, one lot of white tail deer bones, and one lot of yellow perch cranial fragments.

Cultural Affiliation

The human remains and associated funerary objects in this notice are connected to one or more identifiable earlier groups, tribes, peoples, or cultures. There is a relationship of shared group identity between the identifiable earlier groups, tribes, peoples, or cultures and one or more Indian Tribes. The following types of information were used to reasonably trace the relationship: archeological and geographical evidence.

Determinations

Pursuant to NAGPRA and its implementing regulations, and after consultation with the appropriate Indian Tribes and Native Hawaiian organizations, The Fort Ticonderoga Association has determined that:

• The human remains described in this notice represent the physical remains of three individuals of Native American ancestry.

• The 73 objects described in this notice are reasonably believed to have been placed with or near individual human remains at the time of death or later as part of the death rite or ceremony.

• There is a relationship of shared group identity that can be reasonably traced between the human remains and associated funerary objects described in this notice and the Cayuga Nation; Oneida Indian Nation; Oneida Nation; Onondaga Nation; Saint Regis Mohawk Tribe; Seneca Nation of Indians; Seneca-Cayuga Nation; Stockbridge Munsee Community, Wisconsin; Tonawanda Band of Seneca; and the Tuscarora Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 7, 2024. If competing requests for repatriation are received, the Fort Ticonderoga Association must determine the most appropriate requestor prior to repatriation. Requests for joint repatriation of the human remains and associated funerary objects are considered a single request and not competing requests. The Fort Ticonderoga Association is responsible for sending a copy of this notice to the Indian Tribes identified in this notice.

Authority: Native American Graves Protection and Repatriation Act, 25 U.S.C. 3003, and the implementing regulations, 43 CFR 10.9, 10.10, and 10.14.

Dated: December 28, 2023.
Melanie O'Brien,
Manager, National NAGPRA Program.

[FR Doc. 2024-00128 Filed 1-5-24; 8:45 am]

BILLING CODE 4312-52-P